NUCLEAR REGULATORY COMMISSION

Notice of Availability; NUREG-1574, Rev. 2, “Standard Review Plan on Transfer and Amendment of Antitrust License Conditions and Antitrust Enforcement”

AGENCY: Nuclear Regulatory Commission.

ACTION: Notice of availability.

SUMMARY: The Nuclear Regulatory Commission is announcing the completion and availability of NUREG-1574, Rev. 2, “Standard Review Plan on Transfer and Amendment of Antitrust License Conditions and Antitrust Enforcement,” dated November 2007.

ADDRESSES: A copy of NUREG-1574, Rev. 2 is available for inspection and/or copying for a fee in the NRC Public Document Room, 11555 Rockville Pike, Rockville, Maryland. You may also electronically access NUREG-series publications and other NRC records at NRC's Public Electronic Reading Room at http://www.nrc.gov/reading-rm.html.

FOR FURTHER INFORMATION CONTACT: Steven R. Hom, U.S. Nuclear Regulatory Commission, Washington, DC 20555-0001. Telephone: 301-415-1537, e-mail srh@nrc.gov.

SUPPLEMENTARY INFORMATION: NUREG-1574, Rev. 2 (ADAMS accession no. ML072260035) reflects the Energy Policy Act of 2005's removal of the NRC's antitrust review responsibilities regarding applications for licenses under sections 103 and 104 of the Atomic Energy Act of 1954, as amended. Accordingly, antitrust review procedures that existed in the previous “Standard Review Plan on Antitrust Reviews” (NUREG-1574, published December 1997) have been omitted from NUREG-1574, Rev. 2. New guidance has been incorporated on the appropriate disposition of existing antitrust license conditions during direct license transfers and on the review of applications to amend antitrust license conditions outside of license transfers. NUREG-1574, Rev. 2 also provides guidance regarding the NRC's responsibility to refer certain antitrust matters to the Attorney General, and regarding the NRC's enforcement of antitrust license conditions. NUREG-1574, Rev. 2 supersedes the Standard Review Plan on Antitrust Reviews, NUREG-1574, in its entirety.

Notice of the availability of the draft version of NUREG-1574, Rev. 2 for public comment was published in the Federal Register on June 7, 2007 (72 FR 31627). Comments were received from the Nuclear Energy Institute (NEI) dated July 9, 2007. NEI stated that the draft NUREG-1574, Rev. 2 correctly focuses the NRC staff's evaluation of antitrust issues as it conducts limited reviews of existing antitrust license conditions in the context of certain license transfers and license amendment requests related to existing antitrust license conditions. According to NEI, the nuclear energy industry believes the draft of NUREG-1574, Rev. 2 accurately sets forth the state of the law as it applies to NRC licensees. NEI recommended no changes to the draft NUREG-1574, Rev. 2. No other comments were received.

With the exception of some minor editorial changes, the text of the draft NUREG-1574, Rev. 2 was carried over to the final NUREG-1574, Rev. 2.

Congressional Review Act (CRA)

Under the Congressional Review Act (CRA) of 1996, the NRC has determined that this action is not a major rule and has verified this determination with the Office of Management and Budget.

Dated at Rockville, Maryland, this 12th day of December, 2007.
For the Nuclear Regulatory Commission.
Michael J. Case,
Director, Division of Policy and Rulemaking, Office of Nuclear Reactor Regulation.

[FR Doc. E7-24471 Filed 12-17-07; 8:45 am]

BILLING CODE 7590-01-P